DEPARTMENT OF ENERGY

10 CFR Part 431

[Docket No. EERE-2009-BT-CRT-0029]

Agency Information Collection: Energy Conservation Program: Compliance and Certification Information Collection for Distribution Transformers

AGENCY: Office of Energy Efficiency and Renewable Energy, Department of Energy.

ACTION: Notice and request for comment.

SUMMARY: The U.S. Department of Energy (DOE), pursuant to the Paperwork Reduction Act of 1995, has initiated through the Office of Management and Budget (OMB) a three-year extension of its compliance certification information collection: Certification Report for Distribution Transformers, OMB Control Number 1910-5130. The information collection is used by manufacturers or private labelers to report on and certify compliance with energy efficiency standards for distribution transformers. The collection covers information necessary for the DOE and United States Customs Service officials to facilitate compliance with and enforcement of the energy conservation standards established for certain low-voltage dry-type, medium-voltage type, and liquid immersed distribution transformers.

DATES: Comments regarding this collection must be received on or before June 4, 2010.

ADDRESSES: Comments must identify the information collection for distribution transformers and provide the docket number EERE-2009-BT-CRT-0029. Comments may be submitted to DOE using any of the following methods:

• Mr. James Raba, U.S. Department of Energy, Building Technologies Program, Mailstop EE-2J, 1000 Independence Ave., SW., Washington, DC 20585-0121 (submit one signed copy) or by fax at (202) 586-4617 or by e-mail at jim.raba@ee.doe.gov.

• E-mail: appliance.information@ee.doe.gov. Include the docket number in the subject line of the message.

• Hand Delivery/Courier: Ms. Brenda Edwards, U.S. Department of Energy, Building Technologies Program, 950 L'Enfant Plaza, SW., Suite 600, Washington, DC 20024-2123. Telephone: (202) 586-2945. Please submit one signed original paper copy.

• Federal eRulemaking Portal: http://www.regulations.gov. Follow the instructions for submitting comments.

FOR FURTHER INFORMATION CONTACT: Requests for additional information or copies of the information collection instrument and instructions should be directed to Ms. Brenda Edwards and Mr. James Raba at the address listed above in ADDRESSES.

In the Office of the General Counsel, contact Ms. Francine Pinto, U.S. Department of Energy, Office of the General Counsel, GC-762, 1000 Independence Avenue, SW., Washington, DC 20585. Telephone: (202) 586-9507. E-mail: Francine.Pinto@hq.doe.gov.

SUPPLEMENTARY INFORMATION: Background: Section 325(y) of the Energy Policy and Conservation Act (EPCA), 42 U.S.C. 6295(y), establishes energy conservation standards for certain distribution transformers. On July 25, 2006, DOE published a Notice of Proposed Rulemaking (71 FR 42216) to set forth Compliance Certification requirements under 10 CFR 431.371(a)(6)(ii), (b)(1), and appendix C to subpart T. These requirements were finalized on January 5, 2010 (75 FR 652) and became effective February 4, 2010. The Compliance Certification reports on and certifies compliance with the requirements for distribution transformers. It has two elements: a compliance statement that certifies compliance with the requirements contained in 10 CFR part 431 (Energy Conservation Program for Certain Commercial and Industrial Equipment), and a certification report that provides energy efficiency information for each basic model of distribution transformer that a manufacturer or private labeler distributes in commerce in the United States. It is the basis for the energy efficiency information marked on the permanent nameplate of a distribution transformer which enables purchasers to compare the energy efficiencies of similar distribution transformers. The information contained in the compliance statements and certification reports facilitates compliance with and enforcement of the energy efficiency standards established for distribution transformers under 325(y) of EPCA, 42 U.S.C. 6295(y).

(1) OMB No.: 1910-5130. (2) Collection Title: Title 10 of the Code of Federal Regulations, Part 431—Energy Efficiency Program for Certain Commercial and Industrial Equipment: Subpart K—Distribution Transformers: 10 CFR 431.197, Manufacturer's determination of efficiency for distribution transformers; Subpart T—Certification and Enforcement: 10 CFR 431.371(a)(6)(ii), (b)(1), Certification, and appendix C to subpart T—Certification Report for Distribution Transformers. (3) Type of Review: Extension of a currently approved collection. (4) Purpose: The purpose of the collection is two-fold. First, it requires the manufacturer or private labeler of certain commercial or industrial distribution transformers subject to energy efficiency standards prescribed under 10 CFR 431.196 to establish, maintain, and retain records of its test data and subsequent verification of any alternative efficiency determination method used under part 431, et seq. Second, it allows DOE to determine whether, for any basic model of commercial or industrial distribution transformer that is subject to an energy efficiency standard set forth under subpart K of part 431, the manufacturer or private labeler of that distribution transformer has submitted a Compliance Certification to DOE according to the provisions under 10 CFR 431.371(a)(6)(ii) and (b)(1). By its submission, the manufacturer or private labeler is certifying that the basic model meets the requirements of the applicable standard. This information ensures compliance with the energy efficiency standards for certain commercial and industrial distribution transformers. (5) Estimated Number of Respondents: There are approximately 100 manufacturers and private labelers that distribute in commerce in the United States distribution transformers covered under 10 CFR part 431, et seq. (6) Estimated Total Burden Hours: There are approximately 96 total recordkeeping and reporting hours per company per year at a total annualized cost of approximately $1,300 dollars per respondent. (7) Number of Collections: The request contains one information and recordkeeping requirement for all manufacturers or private labelers.

Statutory Authority: Paragraphs A and A-1, subchapter III of the Energy Policy and Conservation Act, 42 U.S.C. 6291-6317.

Issued in Washington, DC, on March 29, 2010.
Cathy Zoi,
Assistant Secretary, Energy Efficiency and Renewable Energy.

[FR Doc. 2010-7605 Filed 4-2-10; 8:45 am]

BILLING CODE 6450-01-P